DEPARTMENT OF EDUCATION

[Docket No.: ED-2014-ICCD-0075]

Agency Information Collection Activities; Submission to the Office of Management and Budget for Review and Approval; Comment Request; The Study of Teacher Preparation Experiences and Early Teacher Effectiveness—Phase II

AGENCY: Institute of Education Sciences/National Center for Education Statistics (IES), Department of Education (ED).

ACTION: Notice.

SUMMARY: In accordance with the Paperwork Reduction Act of 1995 (44 U.S.C. chapter 3501 et seq.), ED is proposing a revision of an existing information collection.

DATES: Interested persons are invited to submit comments on or before August 25, 2014.

ADDRESSES: Comments submitted in response to this notice should be submitted electronically through the Federal eRulemaking Portal at http://www.regulations.gov by selecting Docket ID number ED-2014-ICCD-0075 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Melanie Ali, 202-208-7082.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The Study of Teacher Preparation Experiences and Early Teacher Effectiveness—Phase II.

OMB Control Number: 1850-0891.

Type of Review: A revision of an existing information collection.

Respondents/Affected Public: State, Local, or Tribal Governments, Individuals or households.

Total Estimated Number of Annual Responses: 8,044.

Total Estimated Number of Annual Burden Hours: 5,608.

Abstract: The U.S. Department of Education (ED) is conducting a study examining the relationship between teacher preparation experiences and early teacher effectiveness (The Study of Teacher Preparation Experiences and Early Teacher Effectiveness, formerly known as The Study of Promising Features of Teacher Preparation Programs). This Information Collection Request (ICR) is the second of two ICRs for the study. The first ICR (Phase I Recruitment) requested clearance for recruitment activities. This second ICR, Phase II Data Collection, requests clearance for data collection activities (obtaining teacher contact information from districts, collecting data from teachers on preparation experiences via an online teacher survey, and obtaining student data from districts). Data from this study will be used to identify promising preparation experiences. These results can inform efforts of stakeholders invested in teacher preparation, including national, state, and local policy makers; teacher preparation programs and certifying institutions; districts; and schools. Policy makers and administrators engaged in teacher preparation and certification can learn about which preparation experiences are related to teacher effectiveness. Districts and schools seeking objective information to guide teacher hiring and placement decisions also may find the results valuable.

Dated: July 21, 2014.
Kate Mullan,
Acting Director, Information Collection Clearance Division Privacy, Information and Records Management Services Office of Management.

[FR Doc. 2014-17414 Filed 7-23-14; 8:45 am]

BILLING CODE 4000-01-P